DEPARTMENT OF AGRICULTURE

Food Safety and Inspection Service

[Docket No. 00-041N]

Codex Alimentarius Commission: Meeting of the Codex Committees on Natural Mineral Waters and Cocoa Products and Chocolate

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 17, 2000. The objective of the public meeting is to provide information and receive public comments on agenda items and draft United States positions that will be discussed at the following upcoming committee meetings.

• Seventh Session of the Codex Committee on Natural Mineral Waters (CCNMW) to be held in Fribourg, Switzerland, October 30-November 1, 2000

• Eighteenth Session of the Codex Committee on Cocoa Products and Chocolate (CCCPC) to be held in Fribourg, Switzerland, November 2-4, 2000.

The Under Secretary and FDA recognize the importance of providing interested parties the opportunity to obtain background information on the Sessions of CCNMW and CCCPC and to address items on the agendas.

DATES: The public meeting is scheduled for Tuesday, October 17, 2000, from 9:00 a.m. to 12:00 Noon.

ADDRESSES: The public meeting will be held in Conference Room 1409, Federal Office Building 8, Food and Drug Administration, 200 C Street, SW., Washington, DC 20204. To receive copies of the documents referenced in this notice, contact the FSIS Docket Room, U.S. Department of Agriculture, Food Safety and Inspection Service, Room 102 Cotton Annex, 300 12th Street, SW., Washington, DC 20250-3700. The documents will also be accessible via the World Wide Web at the following address: http://www.fao.org/waicent/faoinfo/economic/esn/codex. Submit one original and two copies of written comments to the FSIS Docket Room (address above) and include Docket #00-041N and the Codex document number on the written submission. All comments received in response to this notice will be considered part of the public record and will be available for viewing in the FSIS Docket Room between 8:30 a.m. and 4:30 p.m., Monday through Friday.

FOR FURTHER INFORMATION CONTACT: Patrick J. Clerkin, Associate U.S. Manager for Codex, U.S. Codex Office, FSIS, Room 4861, South Building, 1400 Independence Avenue, SW., Washington, DC 20250-3700, Telephone (202) 205-7760; Fax (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled.

The Codex Committee on Natural Mineral Waters was established as a Regional (European) Codex Committee, but has been allocated the task of elaborating worldwide standards for natural mineral waters and other bottled/packaged waters. The Codex Committee on Cocoa Products and Chocolate was established to elaborate worldwide standards for cocoa products and chocolate. The Government of Switzerland hosts these Committees and will chair the Committee meetings.

Issues To Be Discussed at the Public Meeting

The U.S. Delegate for the Codex Committee on Natural Mineral Waters will discuss the following subjects at the public meeting from 9:00 a.m. to 10:30 a.m.

1. Matters Referred to the Committee, Document CX/NMW 00/2

2. Consideration of Proposed Draft General Standard for Bottled/Packaged Waters Other Than Natural Mineral Waters at Step 4, Document ALINORM 99/20 Appendix II

3. Codex Standard for Natural Mineral Waters: Limits for Health Related Substances, Document CX/NMW 00/4

The U.S. Delegate for the Codex Committee on Cocoa Products and Chocolate will discuss the following subjects at the public meeting from 10:30 a.m. to 12:00 Noon.

1. Matters Referred to the Committee, Document CX/CCP 00/2

2. Draft Revised Standards at Step 7 For

(a) Cocoa Butters, Document ALINORM 99/14 Appendix II

(b) Cocoa (cacao) Mass, Cocoa (Cacao/Chocolate Liquor) Cocoa Cake for Use in the Manufacture of Cocoa and Chocolate Products, Document ALINORM 99/14 Appendix III

(c) Cocoa Powders (Cocoas) and Dry Cocoa-Sugar Mixtures, Document ALINORM 99/14 Appendix IV

3. Proposed Draft Standard for Chocolate and Chocolate products at Step 4, Document ALINORM 99/14 Appendix V

Additional Public Notification

Public Awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, farm, and consumer interest groups, allied health professionals and scientific professionals, and other individuals that have requested to be included. Through these various channels, FSIS is able to provide information to a much broader, more diverse audience. For more information and to be added to the constituent fax list, fax your request to the FSIS Congressional and Public Affairs Office, at (202) 720-5704.

Done at Washington, DC on: September 27, 2000.
F. Edward Scarbrough,
U.S. Manager for Codex.

[FR Doc. 00-25223 Filed 9-29-00; 8:45 am]

BILLING CODE 3410-DM-P